FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following collections of information titled: (1) Application Pursuant to Section 19 of the Federal Deposit Insurance Act; (2) Public Disclosure by Banks; (3) Certification of Eligibility Under the Affordable Housing Program; and (4) Mutual-to-Stock Conversions of State Savings Banks.

DATES: Comments must be submitted on or before May 22, 2000.

ADDRESSES: Interested parties are invited to submit written comments to Tamara R. Manly, Management Analyst (Regulatory Analysis), (202) 898-7453, Office of the Executive Secretary, Room F-4058, Attention: Comments/OES, Federal Deposit Insurance Corporation, 550 17th Street N.W., Washington, D.C. 20429. All comments should refer to the OMB control number. Comments may be hand-delivered to the guard station at the rear of the 17th Street Building (located on F Street), on business days between 7:00 a.m. and 5:00 p.m. [FAX number (202) 898-3838; Internet address: comments@fdic.gov].

A copy of the comments may also be submitted to the OMB desk officer for the FDIC: Alexander Hunt, Office of Information and Regulatory Affairs, Office of Management and Budget, New Executive Office Building, Room 3208, Washington, D.C. 20503.

FOR FURTHER INFORMATION CONTACT: Tamara R. Manly, at the address identified above.

SUPPLEMENTARY INFORMATION: Proposal to renew the following currently approved collections of information:

1. Title: Application Pursuant to Section 19 of the Federal Deposit Insurance Act.

OMB Number: 3064-0018.

Form Number: 6710/07.

Response: On occasion.

Affected Public: All financial institutions.

Estimated Number of Respondents: 80.

Estimated Time per Response: 16 hours.

Estimated Total Annual Burden: 1,280 hours.

General Description of Collection: Section 19 of the Federal Deposit Insurance Act requires insured depository institutions to obtain the FDIC's consent prior to any participation in their affairs by a person convicted of crimes involving dishonesty or breach of trust. Form 6710/07 is the vehicle for requesting FDIC consent.

2. Title: Public Disclosure by Banks.

OMB Number: 3064-0090.

Frequency of Response: Annually.

Affected Public: All financial institutions.

Estimated Number of Respondents: 6,374.

Estimated Time per Response: .5 hours.

Estimated Total Annual Burden: 3,187 hours.

General Description of Collection: 12 CFR 350 requires a bank to notify the general public, and in some instances shareholders, that disclosure statements are available upon request. Required disclosures consist of financial reports for the current and preceding year which can be copied directly from the year-end Call Report.

3. Title: Certification of Eligibility Under the Affordable Housing Program.

OMB Number: 3064-0116.

Frequency of Response: On occasion.

Affected Public: All financial institutions.

Estimated Number of Respondents: 1,000.

Estimated Time per Response: 1 hour.

Estimated Total Annual Burden: 1,000 hours.

General Description of Collection: The collection of information certifies income eligibility under the affordable housing program. This certification assists the FDIC in determining an individual's eligibility for purchasing affordable housing properties from the FDIC.

4. Title: Mutual-to-Stock Conversions of State Savings Banks.

OMB Number: 3064-0117.

Frequency of Response: On occasion.

Affected Public: State savings banks.

Estimated Number of Respondents: 25.

Estimated Time per Response: 50 hours.

Estimated Total Annual Burden: 1,250 hours.

General Description of Collection: 12 CFR 303.15 and 333.4 require state savings banks that are not members of the Federal Reserve System to file with the FDIC a notice of intent to convert to stock form and provide copies of documents filed with state and federal banking and or securities regulators in connection with the proposed conversion.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of this collection. All comments will become a matter of public record.

Federal Deposit Insurance Corporation.
Dated at Washington, D.C., this 16th day of March, 2000.
Robert E. Feldman,
Executive Secretary.

[FR Doc. 00-7252 Filed 3-22-00; 8:45 am]

BILLING CODE 6714-01-P